DEPARTMENT OF TRANSPORTATION

Office of the Secretary

Reports, Forms and Recordkeeping Requirements; Agency Information Collection Activity Under OMB Review

AGENCY: Office of the Secretary, DOT.

ACTION: Notice.

SUMMARY: In compliance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice with a 60-day comment period soliciting comments on the following collection of information was published on May 15, 2000 [FR 65, page 31048]. No comments were received.

DATES: Comments must be submitted on or before September 18, 2000.

FOR FURTHER INFORMATION CONTACT: Delores King, Air Carrier Fitness Division, X-56, Office of Aviation Analysis; Office of the Secretary; U.S. Department of Transportation, 400 7th Street, SW.; Washington, DC 20590-0002. Telephone (202) 366-2343.

SUPPLEMENTARY INFORMATION:

Office of the Secretary (OST)

Title: USE AND CHANGE OF NAMES OF AIR CARRIERS, FOREIGN AIR CARRIERS AND COMMUTER AIR CARRIERS.

OMB Control Number: 2106-0043.

Affected Public: Persons seeking to use or change the name or trade name in which they hold themselves out to the public as an air carrier or foreign or commuter air carrier authority must register the name or trade name which they will use to hold out air service to the public.

Annual Estimated Burden: 69.*

*The annual estimated burden has decreased from 87.4 hours because of the decrease in the number of name registration applicants over the past two years.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued in Washington, DC on August 15, 2000.
Michael Robinson,
Information Resource Management, United States Department of Transportation.

[FR Doc. 00-21127 Filed 8-17-00; 8:45 am]

BILLING CODE 4910-62-P